DEPARTMENT OF HEALTH AND HUMAN SERVICES

Centers for Medicare & Medicaid Services

[Document Identifier: CMS-10451]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Evaluation and Development of Outcome Measures for Quality Assessment in Medicare Advantage and Special Needs Plans; Use: Quality improvement is a major initiative for the Centers for Medicare and Medicaid Services (CMS). With the passing of the Patient Protection and Affordable Care Act in March 2010, there is a focused interest in providing quality and value-based healthcare for Medicare beneficiaries. In addition, it is critical to develop criteria not only for quality improvement but also as a means for beneficiaries to compare healthcare plans to make the choice that is right for them.

It is critical to the CMS mission to expand its quality improvement efforts from collection of structure and process measures to include outcome measures. However, the development of outcome measures appropriate for the programs serving older and/or disabled patients has been somewhat limited. The development and subsequent implementation of outcome measures as part of the overall quality improvement program for CMS is crucial to ensuring that beneficiaries obtain high quality healthcare. In addition, process of care measures are needed that focus on the care needs of Medicare beneficiaries, such as factors affecting continuity of care and transitions.

This request is for data collection to test the use of new tools available to CMS to measure care pertinent to vulnerable beneficiaries where quality of care provided by Medicare Advantage Organizations (MAOs) should be closely monitored. The measures to be evaluated and developed upon approval of this request relate to (1) Continuity of information and care from hospital discharge to the outpatient setting, (2) continuity between mental health provider and primary care provider (PCP), and (3) items that may be added to the Consumer Assessment of Healthcare Providers and Systems (CAHPS) survey addressing language-centered care, cultural competence, physical activity, healthy eating, and caregiver strain. Form Number: CMS-10451 (OCN: 0938-New); Frequency: Yearly, occasionally; Affected Public: Individuals or Households, Private sector—Business or other for-profits; Number of Respondents: 2,012; Total Annual Responses: 2,360; Total Annual Hours: 4,630. (For policy questions regarding this collection contact Susan Radke at 410-786-4450. For all other issues call 410-786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by December 26, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ___ Room C4-26-05, 7500 Security Boulevard, Baltimore, Maryland 21244-1850.

Dated: October 23, 2012.
Martique Jones,
Director, Regulations Development Group, Division B, Office of Strategic Operations and Regulatory Affairs.

[FR Doc. 2012-26380 Filed 10-25-12; 8:45 am]

BILLING CODE 4120-01-P